NATIONAL SCIENCE FOUNDATION

National Science Board; Sunshine Act Meetings; Notice

The National Science Board's Committee on Education and Human Resources, pursuant to NSF regulations (45 CFR part 614), the National Science Foundation Act, as amended (42 U.S.C. 1862n-5), and the Government in the Sunshine Act (5 U.S.C. 552b), hereby gives notice in regard to the scheduling of a teleconference for the transaction of National Science Board business and other matters specified, as follows:

DATE & TIME: Tuesday, April 16, 2013, from 2:00-3:00 p.m. EDT.

SUBJECT MATTER: (1) Chairman's opening remarks; (2) discussion of a possible role for CEH in enhancing retention of undergraduates in STEM education; and (3) update on the NSTC's committee on STEM education (CoSTEM) activities and their implications for NSF.

STATUS: Open.

LOCATION: This meeting will be held by teleconference at the National Science Board Office, National Science Foundation, 4201Wilson Blvd., Arlington, VA 22230. A public listening room will be available for this teleconference meeting. All visitors must contact the Board Office (call 703-292-7000 or send an email message to nationalsciencebrd@nsf.gov) at least 24 hours prior to the teleconference for the public room number and to arrange for a visitor's badge. All visitors must report to the NSF visitor desk located in the lobby at the 9th and N. Stuart Streets entrance on the day of the teleconference to receive a visitor's badge.

UPDATES & POINT OF CONTACT: Please refer to the National Science Board Web site www.nsf.gov/nsb for additional information. Meeting information and updates (time, place, subject matter or status of meeting) may be found at http://www.nsf.gov/nsb/notices/. Point of contact for this meeting is: Jack Meszaros, 4201Wilson Blvd., Arlington, VA 22230. Telephone: (703) 292-7000.

Ann Bushmiller,
Senior Counsel to the National Science Board.

[FR Doc. 2013-08642 Filed 4-9-13; 4:15 pm]

BILLING CODE 7555-01-P